U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC, on January 25, 2018 on “China's Belt and Road Initiative: Five Years Later.”

DATES: The hearing is scheduled for Thursday, January 25, 2018 from 9:30 a.m. to 3:15 p.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale, 444 North Capitol Street NW, Suite 602, Washington, DC 20001; telephone: 202-624-1496, or via email at ltisdale@uscc.gov. Reservations are not required to attend the hearing.

SUPPLEMENTARY INFORMATION: Background: This is the first public hearing the Commission will hold during its 2018 report cycle. This hearing will assess the status of China's Belt and Road initiative five years on, focusing on its economic, military, and geostrategic drivers and implications, as well as regional reactions and competing visions. The hearing will also explore how China's Belt and Road initiative impacts U.S. economic and national security interests. The hearing will be co-chaired by Commissioners Dennis Shea and Katherine Tobin. Any interested party may file a written statement by January 25, 2018, by mailing to the contact above. A portion of each panel will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Date: January 9, 2018.
Kathleen Wilson,
Finance and Operations Director, U.S.-China Economic and Security Review Commission.

[FR Doc. 2018-00464 Filed 1-11-18; 8:45 am]

BILLING CODE 1137-00-P